DEPARTMENT OF INTERIOR

Bureau of Land Management

[15X L1109AF LLUTY01000 L12200000.MA0000 24-1A]

Notice of Motorized Vehicle Temporary Restrictions for Specified Routes on Public Land During the Annual Moab Jeep Safari, Utah

AGENCY: Bureau of Land Management, Interior.

ACTION: Notice.

SUMMARY: This notice restricts motorized use on 10 popular vehicle routes located on public land used by the Moab Jeep Safari during its annual Moab Jeep Safari organized-group event, authorized under a Special Recreation Permit (SRP). The action is in effect for the Jeep Safari event which takes place annually, during the 9-day period prior to and including Easter. The dates for the Moab Jeep Safari and the dates of the temporary restrictions will be posted at the Moab Field Office and on the Moab Field Office's Web site at the addresses provided below every year at least 30 days prior to the event. The dates are also available upon request.

DATES: This notice is effective upon publication and shall remain in effect for the length of the Red Rock 4-Wheelers SRP, which expires on December 31, 2022.

FOR FURTHER INFORMATION CONTACT: Rock Smith, Recreation Branch Chief, BLM-Moab Field Office, 82 East Dogwood Avenue, Moab, Utah 84532, or telephone 435-259-2100. Also see the Moab Field Office Web site at: www.blm.gov/ut/st/en/fo/moab.html.

SUPPLEMENTARY INFORMATION: On December 28, 2012, the Decision Record authorizing the Jeep Safari SRP was signed. This permit authorizes the Red Rock 4-Wheelers to utilize a set of 38 routes known as the Jeep Safari routes, for 9 days per year during an annual organized group event. The event traditionally includes Easter Sunday and the previous 8 days. The permit is authorized from 2013 through 2022. The Environmental Assessment analyzing these routes (EA #DOI-BLM-UT-Y010-2011-0189) concluded that allowing permitted motorized users exclusive use of 7 of the more popular routes listed in the below summary, and managing for one-way travel on the 3 additional routes listed in the below summary for the 9-day period of the Moab Jeep Safari, would mitigate environmental damage by lessening the amount of traffic concentrated on these narrow dirt routes. These routes receive the most intense and concentrated use during the annual 9-day event. The following two components of the action apply only to the use of motorized vehicles.

Exclusive Use: The following routes will be for the exclusive use of Moab Jeep Safari participants and other motorized users authorized under an SRP on days that the routes are utilized by the Moab Jeep Safari: Behind the Rocks, Cliff Hanger, Gold Bar Rim, Golden Spike, Moab Rim, Poison Spider Mesa, and Pritchett Canyon. For the routes listed above, motorized users without an SRP authorizing use of these routes are prohibited from using them. Non-motorized uses are not restricted.

One-Way Travel: The following routes are restricted to one-way travel for the entire nine days of the Moab Jeep Safari: Hell's Revenge, Kane Creek Canyon and Steelbender. For the Hell's Revenge route, motorized use must occur one-way from east to west (i.e., from the Sand Flats Recreation Area entrance booth west to the end of the route west of the Lion's Back Rock). This action is consistent with Grand County's travel management which allows the Lion's Back access to be used only as an exit for general recreational travel. For the Kane Creek Canyon route, motorized use must occur one-way from north to south (i.e., from the Hurrah Pass/Kane Creek junction south to the end of the route at U.S. Highway 191). For the Steelbender route, motorized use must occur one-way from north to south (i.e., from the Moab Golf Club area entry south to the southern end of the route near Flat Pass and Kens Lake). This restriction applies to all motorized users.

Exclusive motorized use of seven of the more popular routes listed above, by permittees only, would minimize damage to wilderness study areas, water quality, soils, visual resources and vegetation by reducing the amount of travel. In addition, restricting motorized use of these routes reduces user conflicts and provides for a more enjoyable experience during the well-attended annual Jeep Safari.

One-way use of three routes listed above would reduce impacts to water quality, soils, visual resources, and vegetation by eliminating passing, which results in road widening along these narrow routes. In addition, one-way travel mitigates crowding along these three routes, reduces user conflict and provides for a more enjoyable experience for event participants.

This action will be posted at the BLM-Moab Field Office as well as on the Moab Field Office Web site at: www.blm.gov/ut/st/en/fo/moab.html. The restrictions will also be posted at each of the trailheads affected during the Jeep Safari. Enforcement of these restrictions will be in accordance with 43 CFR 8360.0-7 and 18 U.S.C. 3571.

Exceptions

The use of motorized vehicles for emergency, official United States military and law enforcement purposes, or for official duties, or as otherwise authorized by the BLM are exempt from these restrictions. Use of motorized wheelchairs is also exempt.

Authority: 43 CFR 8364.1.

Kent Hoffman,
Acting State Director.

[FR Doc. 2015-00235 Filed 1-9-15; 8:45 am]

BILLING CODE 4310-DQ-P